ENVIRONMENTAL PROTECTION AGENCY

40 CFR Part 268

[EPA-HQ-RCRA-2010-0851; FRL-9310-2]

Land Disposal Restrictions: Site-Specific Treatment Variance for Hazardous Selenium-Bearing Waste Treated by U.S. Ecology Nevada in Beatty, NV and Withdrawal of Site-Specific Treatment Variance for Hazardous Selenium-Bearing Waste Treatment Issued to Chemical Waste Management in Kettleman Hills, CA

AGENCY: Environmental Protection Agency (EPA).

ACTION: Withdrawal of Direct Final Rule.

SUMMARY: Because EPA received adverse comment, we are withdrawing the Direct Final rule that granted a site-specific treatment variance to U.S. Ecology Nevada in Beatty, Nevada and withdrew an existing site-specific treatment variance issued to Chemical Waste Management, Inc. in Kettleman Hills, California. The Direct Final rule pertains to the treatment of a hazardous waste generated by the Owens-Brockway Glass Container Company in Vernon, California that is unable to meet the concentration-based treatment standard for selenium established under the Land Disposal Restrictions program. EPA also issued a parallel proposal to be used as the basis for the final action in the event that EPA received any adverse comments on the Direct Final rule.

DATES: Effective May 24, 2011, EPA withdraws the Direct Final rule published at 76 FR 18921 on April 6, 2011.

FOR FURTHER INFORMATION CONTACT: For more information, contact Jesse Miller, Materials Recovery and Waste Management Division, Office of Resource Conservation and Recovery (MC 5304 P), U.S. Environmental Protection Agency, 1200 Pennsylvania Ave., NW., Washington, DC 20460; telephone (703) 308-1180; fax (703) 308-0522; or miller.jesse@epa.gov.

SUPPLEMENTARY INFORMATION: Because EPA received adverse comment, we are withdrawing the Direct Final rule that amended the Land Disposal Restrictions treatment standards (40 CFR part 268.44(o)) by granting a site-specific treatment variance to U.S. Ecology Nevada in Beatty, Nevada and withdrawing an existing site-specific treatment variance issued to Chemical Waste Management, Inc. in Kettleman Hills, California, published on April 6, 2011 at 76 FR 18921. We stated in that Direct Final rule that if we received adverse comment by May 6, 2011, the Direct Final rule would not take effect and we would publish a timely withdrawal in the Federal Register. We subsequently received adverse comment on that Direct Final rule. We will address those comments in any subsequent final action, which will be based on the parallel proposed rule also published on April 6, 2011 at 76 FR 18921. As stated in the Direct Final rule and the parallel proposed rule, we will not institute a second comment period on this action.

List of Subjects in 40 CFR Part 268

Environmental protection, Hazardous waste, and Variances.

Dated: May 17, 2011.
Mathy Stanislaus,
Assistant Administrator, Office of Solid Waste and Emergency Response.

Accordingly, the amendments to the rule published on April 6, 2011 (76 FR 18921) are withdrawn as of May 24, 2011.

[FR Doc. 2011-12783 Filed 5-23-11; 8:45 am]

BILLING CODE 6560-50-P